OFFICE OF THE UNITED STATES TRADE REPRESENTATIVE

Generalized System of Preferences (GSP): Notice of the Results of the 2006 Annual Product and Country Practices Reviews

AGENCY: Office of the United States Trade Representative.

ACTION: Notice.

SUMMARY: This notice announces the disposition of the product petitions accepted for review in the 2006 GSP Annual Product Review, the results of the 2006 Country Practices Review, the results of the 2006 De Minimis Waiver and Redesignation Reviews, the 2006 Competitive Need Limitation (CNL) Removals, and certain CNL Waiver Revocations. The disposition of the petitions and other results are available at: http://www.ustr.gov/Trade_Development/Preference_Programs/GSP/Section_Index.html and as published in Presidential Proclamation 8157 in the June 29, 2007, Federal Register.

FOR FURTHER INFORMATION CONTACT: The GSP Subcommittee, Office of the United States Trade Representative (USTR), Room F-220, 1724 F Street, NW., Washington, DC 20508. The telephone number is (202) 395-6971 and the facsimile number is (202) 395-9481. The e-mail address is FR0618@USTR.EOP.GOV.

SUPPLEMENTARY INFORMATION: The GSP program provides for the duty-free importation of designated articles when imported from beneficiary developing countries. The GSP program is authorized by Title V of the Trade Act of 1974 (19 U.S.C. 2461, et seq.), as amended (the “Trade Act”), and is implemented in accordance with Executive Order 11888 of November 24, 1975, as modified by subsequent Executive Orders and Presidential Proclamations.

In the 2006 Annual Product Review, the Trade Policy Staff Committee reviewed petitions to change product coverage of the GSP. The disposition of those petitions is described in List I (Decisions on CNL Waiver Petitions in the 2006 GSP Annual Review) of the “Results of the 2006 GSP Annual Review.”

The disposition of petitions considered in the 2006 Country Practices Review is described in List II (“Decisions on Country Practice Petitions in the 2006 GSP Annual Review”) of the “Results of the 2006 GSP Annual Review.”

In the 2006 Product Review, the GSP Subcommittee evaluated the appraised import values of each GSP-eligible article in 2006 to determine whether an article from a GSP beneficiary developing country exceeded the GSP CNLs. De minimis waivers were granted to certain articles that exceeded the 50 percent import share CNL, but for which the aggregate value of the imports of that article was below the 2006 de minimis level of $18 million. List III of the “Results of the 2006 GSP Annual Review” (Products Receiving De Minimis Waivers) is the list of the articles and the associated countries granted de minimis waivers.

Additionally, certain articles from GSP-eligible countries that had previously exceeded the CNLs, but had fallen below the CNL for total annual trade in 2006 were redesignated for GSP eligibility pursuant to the 2006 review. These articles and countries are listed in List IV (Products Receiving GSP Redesignation) of the “Results of the 2006 GSP Annual Review.” Articles that exceeded one of the GSP CNLs in 2006, and that are newly excluded from GSP eligibility for a specific country, are listed in List V (Products Newly Subject to CNL Exclusions) of the “Results of the 2006 GSP Annual Review.”

Certain articles for which a waiver of the application of Section 503(c)(2)(A) of the 1974 Act was issued at least five years ago, but which are revoked pursuant to Section 503(d)(5) are listed in List VI (Products for which a Waiver of the Application of Section 503(c)(2)(A) of the 1974 Act is Revoked) of the “Results of the 2006 GSP Annual Review.”

Marideth J. Sandler,
Executive Director, Generalized System of Preferences (GSP) Program Chairman, GSP Subcommittee.

[FR Doc. E7-12887 Filed 7-2-07; 8:45 am]

BILLING CODE 3190-W7-P